COMMISSION ON CIVIL RIGHTS

Agenda and Notice of Public Meeting of the New Jersey Advisory Committee

Notice is hereby given, pursuant to the provisions of the rules and regulations of the U.S. Commission on Civil Rights, that a meeting of the New Jersey Advisory Committee to the Commission will convene at 10 a.m. and adjourn at 4:30 p.m. on Tuesday, May 13, 2003, at the New Jersey State House, 125 W. State Street, Room 1, Trenton, NJ 08625. The purpose of this meeting is to review status of current activity, plan new projects, and receive briefings from invited speakers on civil rights developments in the state.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated in Washington, DC, May 6, 2003.
Ivy L. Davis,
Chief, Regional Programs Coordination Unit.

[FR Doc. 03-11967 Filed 5-13-03; 8:45 am]

BILLING CODE 6335-01-P